DEPARTMENT OF HEALTH AND HUMAN SERVICES

Centers for Disease Control and Prevention

A Public Health Action Plan To Combat Antimicrobial Resistance (Part II: Global Issues): Meeting for Public Comment on Development of Part II of the Action Plan (Global Issues)

The Centers for Disease Control and Prevention (CDC), Food and Drug Administration (FDA), and National Institutes of Health (NIH) announce an open meeting concerning antimicrobial resistance.

Name: A Public Health Action Plan To Combat Antimicrobial Resistance (Part II: Global Issues): Meeting for Public Comment on the Development of Part II of the Action Plan (Global Issues).

Time and Date: 8:30 a.m.-3:30 p.m., September 26, 2002.

Place: Manchester Grand Hyatt, Manchester Ballroom A & B, 8120 One Market Place, San Diego, California, 92101, U.S.A. Tel: 619-232-1234; Fax: 619-232-5678.

Status: Open to the public, interested experts who are citizens of the United States or other countries are welcomed and encouraged to attend. Limited only by the space available.

Purpose: To solicit comments to aid in the development of A Public Health Action Plan to Combat Antimicrobial Resistance (Part II: Global Issues). The Action Plan serves as a blueprint for specific actions of U.S. government agencies to address the global problem of antimicrobial resistance.

Matters to be Discussed: The agenda will consist of welcome and introductory comments, focusing on the three areas that comprise Part II of the Action Plan, lasting about 90 minutes. The three focus areas are: Surveillance, Prevention and Control, and Research. Breakout groups will then meet to discuss each focus area for approximately 3 hours. Following lunch, the entire group will reconvene for a concluding plenary session lasting approximately 2 hours.

Comments and suggestions from the public for Federal agencies related to each of the focus areas will be taken under advisement by the Antimicrobial Resistance Interagency Task Force. The agenda does not include development of consensus positions, guidelines, or discussions or endorsement of specific commercial products.

The Action Plan (Part I: Domestic Issues) is available at http://www.cdc.gov/drugresistance.The public meeting is sponsored by the CDC, FDA, and NIH in collaboration with eight other Federal agencies and departments involved in developing and writing A Public Health Action Plan to Combat Antimicrobial Resistance (Part II: Global Issues).

Agenda items are subject to change as priorities dictate.

Limited time will be available for oral questions, comments, and suggestions from the public. Depending on the number wishing to comment, a time limit may be imposed. In the interest of time, visual aids will not be permitted, although written material may be submitted for subsequent review by the Task Force. Written comments and suggestions from the public are encouraged and should be received by the contact person or email listed below prior to the opening of the meeting or no later than the end of October 2002.

Persons who anticipate attending the meeting are requested to send written notification to the contact person below by September 23, 2002, including name, organization (if applicable), address, phone, fax, and email address.

Contact Person for More Information: Ms. Vickie Garrett, Antimicrobial Resistance, Office of the Director, NCID, CDC, Mailstop C-12, 1600 Clifton Road, NE., Atlanta, GA 30333; telephone 404-639-2603; fax 404-639-4197; or e-mail aractionplan@cdc.gov.

The Director, Management Analysis and Services Office, has been delegated the authority to sign Federal Register Notices pertaining to announcements of meetings and other committee management activities, for both the Centers for Disease Control and Prevention and the Agency for Toxic Substances and Disease Registry.

Dated: August 14, 2002.
Joseph E. Salter,
Acting Director, Management Analysis and Services Office, Centers for Disease Control and Prevention.

[FR Doc. 02-21083 Filed 8-19-02; 8:45 am]

BILLING CODE 4163-18-P